SMALL BUSINESS ADMINISTRATION

Military Reservist Economic Injury Disaster Loans; Interest Rate for Third Quarter FY 2019

The Small Business Administration publishes an interest rate for Military Reservist Economic Injury Disaster Loans (13 CFR 123.512) on a quarterly basis. The rate will be 4.000 for loans approved on or after April 30, 2019.

James Rivera,
Associate Administrator for Disaster Assistance.

[FR Doc. 2019-11505 Filed 5-31-19; 8:45 am]

BILLING CODE 8025-01-P